DEPARTMENT OF STATE

[Public Notice: 10211]

Democratic People's Republic of Korea (DPRK) Designation as a State Sponsor of Terrorism (SST)

In accordance with section 6(j)(1) of the Export Administration Act of 1979 (50 U.S.C. App. 2405(j)), and as continued in effect by Executive Order 13222 of August 17, 2001, section 620A(a) of the Foreign Assistance Act of 1961, Public Law 87-195, as amended (22 U.S.C. 2371(c)), and section 40(f) of the Arms Export Control Act, Public Law 90-629, as amended (22 U.S.C. 2780(f)), I hereby determine that the Democratic People's Republic of Korea (DPRK) has repeatedly provided support for acts of international terrorism.

This notice shall be published in the Federal Register.

Dated: November 17, 2017.
Rex W. Tillerson,
Secretary of State.

[FR Doc. 2017-25547 Filed 11-24-17; 8:45 am]

BILLING CODE 4710-AD-P